DEPARTMENT OF AGRICULTURE

Forest Service

Directive Publication Notice

AGENCY: Forest Service, Agriculture (USDA).

ACTION: Notice.

SUMMARY: The Forest Service (Forest Service or Agency), U.S. Department of Agriculture, provides direction to employees through issuances in its Directive System, comprised of the Forest Service Manual and Forest Service Handbooks. The Agency must provide public notice of and opportunity to comment on directives that formulate standards, criteria, or guidelines applicable to Forest Service programs. Once per quarter, the Agency provides advance notice of proposed and interim directives that will be made available for public comment during the next three months; proposed and interim directives that were previously published for public comment but not yet finalized and issued; and notice of final directives issued in the last three months.

DATES: This notice identifies proposed and interim directives that may be published for public comment between July 1, 2025, and September 30, 2025; proposed and interim directives that were previously published for public comment but not yet finalized and issued; and final directives that have been issued since April 1, 2025.

ADDRESSES: Questions or comments may be submitted by email to the contact listed below.

FOR FURTHER INFORMATION CONTACT: Amber Stewart, (202) 440-1738 or amber.stewart@usda.gov. Individuals who use telecommunications devices for the hearing impaired may call 711 to reach the Telecommunications Relay Service, 24 hours a day, every day of the year, including holidays.

SUPPLEMENTARY INFORMATION:

Proposed and Interim Directives

Consistent with 16 U.S.C. 1612(a) and 36 CFR part 216, the Forest Service publishes notice of the opportunity for public comment on Agency Directives that formulate standards, criteria, and guidelines applicable to Forest Service programs. Agency procedures for providing public notice and opportunity to comment are specified in Forest Service Handbook (FSH) 1109.12, Chapter 30, Providing Public Notice and Opportunity to Comment on Directives.

The following proposed directives are planned for publication for public comment from July 1, 2025, to September 30, 2025:

1. Forest Service Manual (FSM) 2700 Special Uses Management, Chapter 2710, Special Uses Authorizations, and Chapter 2720, Special Uses Administration.

2. Forest Service Handbook (FSH) 2709.11 Special Uses, Chapter 10, Application and Authorization Processing, Chapter 30, Land Use Fee Determination, and Chapter 50, Standard Forms and Supplemental Clauses.

3. Forest Service Handbook (FSH) 2709.14 Recreation Special Uses, Chapter 40, Federally Owned Improvements, Chapter 50, Outfitting and Guiding and other Concession Services, and Chapter 80 Recreation and Other Temporary Events.

The following proposed directives have been published for public comment but have not yet been finalized:

1. Forest Service Manual (FSM) 2400, Timber Management, Chapter 2470, Silvicultural Practices, (previously published as planned for publication for public comment August 16, 2024 (89 FR-66671)).

2. Forest Service Manual (FSM) 2300 Recreation, Wilderness, And Related Resource Management, Chapter 2350, Trail, River, and Similar Recreation Opportunities, Section 2355, Climbing Opportunities, (previously published as planned for publication for public comment November 17, 2023 (88 FR-80269)).

Final Directives That Have Been Issued Since July 1, 2025

1. Forest Service Handbook (FSH) 2209.13, Rangeland Management, Grazing Permit Administration, Chapter 10, Permits with Term Status, Chapter 20, Grazing Agreements, Chapter 40, Reserved, and Chapter 50, Other Permits.

Amber R. Stewart,
Deputy Director, Policy Office, National Forest System.

[FR Doc. 2025-16681 Filed 8-29-25; 8:45 am]

BILLING CODE 3411-15-P